Title 3—

The President

Memorandum of July 22, 2024

Delegation of Certain Functions and Authorities Under the Rebuilding Economic Prosperity and Opportunity for Ukrainians Act

Memorandum for the Secretary of State [and] the Secretary of the Treasury

By the authority vested in me as President by the Constitution and the laws of the United States of America, including section 301 of title 3, United States Code, I hereby order as follows:

Section 1. (a) I hereby delegate to the Secretary of the Treasury the functions and authorities vested in the President by sections 104(a)(1) and 104(a)(2)(A) of the Rebuilding Economic Prosperity and Opportunity for Ukrainians Act (Division F of Public Law 118-50) (the “Act”).

(b) I hereby delegate to the Secretary of State, in consultation with the Secretary of the Treasury, the functions and authorities vested in the President by sections 104(g), 104(i), 105(c), 105(e), and 105(g) of the Act.

Sec. 2. The delegations in this memorandum shall apply to any provisions of any future public laws that are the same or substantially the same as those provisions referenced in this memorandum.

Sec. 3. The Secretary of the Treasury is authorized and directed to publish this memorandum in the Federal Register.

THE WHITE HOUSE,

Washington, July 22, 2024

[FR Doc. 2024-16534

Filed 7-24-24; 8:45 am]

Billing code 4811-33-P